DEPARTMENT OF HEALTH AND HUMAN SERVICES

Announcement of Solicitation of Written Comments on Modifications of Healthy People 2020 Objectives

AGENCY: Office of the Secretary, Office of the Assistant Secretary of Health, Office of Disease Prevention and Health Promotion, Department of Health and Human Services.

ACTION: Notice.

SUMMARY: The U.S. Department of Health and Human Services solicits written comments regarding a new objective proposed to be added to Healthy People 2020 since the fall 2015 public comment period. Public participation helps shape Healthy People 2020, its framework, objectives, organization, and targets. Healthy People provides opportunities for public input periodically throughout the decade to ensure that Healthy People 2020 reflects current public health priorities and public input. The updated set of Healthy People 2020 objectives will be incorporated on www.HealthyPeople.gov. This set will reflect further review and deliberation by the topic area workgroups, Federal Interagency Workgroup on Healthy People 2020, and other Healthy People 2020 stakeholders.

DATES: Written comments will be accepted until 5:00 p.m. ET on October 27, 2016.

ADDRESSES: Written comments will be accepted via an online public comment database at http://www.healthypeople.gov/2020/about/history-development/Public-Comment; by mail at the Office of Disease Prevention and Health Promotion, U.S. Department of Health and Human Services, Attn: Public Comment, 1101 Wootton Parkway, Room LL-100, Rockville, MD 20852; fax—(240) 453-8281; or email—HP2020@hhs.gov.

FOR FURTHER INFORMATION CONTACT: Caitie Blood, MPH, Office of Disease Prevention and Health Promotion, U.S. Department of Health and Human Services, 1101 Wootton Parkway, Room LL-100, Rockville, MD 20852, Caitlin.Blood@HHS.gov (email), (240) 453-8265 (telephone), (240) 453-8281 (fax).

SUPPLEMENTARY INFORMATION: For three decades, Healthy People has provided a comprehensive set of national 10-year health promotion and disease prevention objectives aimed at improving the health of all Americans. Healthy People 2020 objectives provide a framework by presenting a comprehensive picture of the nation's health at the beginning of the decade, establishing national goals and targets to be achieved by the year 2020, and monitoring progress over time. The U.S. Department of Health and Human Services is soliciting the submission of written comments regarding a new objective proposed to be added to Healthy People 2020 since the fall 2015 public comment period.

Healthy People 2020 is the product of an extensive collaborative process that relies on input from a diverse array of individuals and organizations, both within and outside the federal government, with a common interest in improving the nation's health. Public comments were a cornerstone of Healthy People 2020's development. During the first phase of planning for Healthy People 2020, HHS asked for the public's comments on the vision, mission, and implementation of Healthy People 2020. Those comments helped set the framework for Healthy People 2020. The public was also invited to submit comments on proposed Healthy People 2020 objectives, which helped shape the final set of Healthy People 2020 objectives.

The public is now invited to comment on a new objective proposed to be added to Healthy People 2020, which can be found at http://www.healthypeople.gov/2020/about/history-development/Public-Comment. This new objective was developed by the HIV topic area workgroup led by the Centers for Disease Control and Prevention and Health Resources and Services Administration. It has been reviewed by the Federal Interagency Workgroup on Healthy People 2020 and is presented now for the public's review and comment. Comments are restricted to this specific HIV objective. Having reached the midpoint in the decade, Healthy People will not be soliciting proposals for additional new objectives.

Written comments will be accepted at http://www.healthypeople.gov/2020/about/history-development/Public-Comment. The public will also be able to submit written comments via mail, fax, and email (see contact information above). Comments received in response to this notice will be reviewed and considered by the appropriate topic area workgroup, Federal Interagency Workgroup on Healthy People 2020, and other Healthy People 2020 stakeholders.

Dated: October 3, 2016.
Don Wright,
Deputy Assistant Secretary for Health (Disease Prevention and Health Promotion).

[FR Doc. 2016-24250 Filed 10-5-16; 8:45 am]

BILLING CODE 4150-32-P